DEPARTMENT OF COMMERCE

International Trade Administration

[A-549-821]

Polyethylene Retail Carrier Bags from Thailand: Final Results of Antidumping Duty Administrative Review and Partial Rescission of Antidumping Duty Administrative Review

AGENCY: Import Administration, International Trade Administration, Department of Commerce.

SUMMARY: On July 11, 2007, the Department of Commerce published the preliminary results of the 2005/2006 administrative review of the antidumping duty order on polyethylene retail carrier bags from Thailand. We gave interested parties an opportunity to comment on the preliminary results. Based on our analysis of the comments received and an examination of our calculations, we have made certain changes for the final results. The final weighted-average dumping margins for the respondents are listed below in the “Final Results of the Review” section of this notice.

EFFECTIVE DATE: November 16, 2007.

FOR FURTHER INFORMATION CONTACT: Kristin Case or Richard Rimlinger, AD/CVD Operations, Office 5, Import Administration, International Trade Administration, U.S. Department of Commerce, 14th Street and Constitution Avenue, NW, Washington, DC 20230; telephone (202) 482-3174 or (202) 482-4477, respectively.

SUPPLEMENTARY INFORMATION:

Background

On July 11, 2007, the Department of Commerce (the Department) published Polyethylene Retail Carrier Bags from Thailand: Preliminary Results of Antidumping Duty Administrative Review and Intent to Rescind in Part, 72 FR 37718 (July 11, 2007) (Preliminary Results), in the Federal Register. The administrative review covers 16 producers/exporters.¹ We selected the following respondents for individual examination: Advance Polybag Inc., Alpine Plastics Inc., API Enterprises Inc., and Universal Polybag Co., Ltd. (collectively UPC/API); CP Packaging Industry Co., Ltd. (CP); King Pac Ind. Co., Ltd. (King Pac²); Thai Plastic Bags Industries Co., Ltd., APEC Film Ltd., and Winner's Pack Co., Ltd. (collectively TPBG). For the companies under review which we did not select for individual examination, we have calculated a weighted average of the weighted-average margins we have established for the individually reviewed respondents excluding rates based entirely on adverse facts available. The period of review is August 1, 2005, through July 31, 2006.

¹ The 16 exporters/producers are as follows: Advance Polybag Inc., Alpine Plastics Inc., APEC Film Ltd., API Enterprises Inc., Apple Film Co., Ltd., CP Packaging Industry Co., Ltd., King Pac Ind. Co. Ltd., Naraipak Co., Ltd., Polyplast (Thailand) Co., Ltd., Sahachit Watana Plastic Ind. Co., Ltd., Thai Plastic Bags Industries Co., Ltd., Thantawan Industry Public Co., Ltd., U. Yong Ltd., Part., U Yong Industry Co., Ltd., Universal Polybag Co., Ltd., and Winner's Pack Co., Ltd. See Preliminary Results, 72 FR at 37718. This does not include Multibax Public Co., Ltd. (Multibax), for which we are rescinding the administrative review.

² The record indicates that the company King Pac also has an alternative spelling to its name and thus, the company names King Pac or King Pak are acceptable in referring to this company in this proceeding.

We invited parties to comment on the Preliminary Results. On August 13, 2007, we received case briefs from the Polyethylene Retail Carrier Bag Committee and its individual members, Hilex Poly Co., LLC, and Superbag Corporation (collectively, the petitioners), CP, and KYD Ltd. (KYD), an importer of subject merchandise. On August 22, 2007, we received rebuttal briefs from the petitioners, CP, and KYD. At the request of KYD, we held a hearing on August 29, 2007.

We have conducted this review in accordance with section 751(a) of the Tariff Act of 1930, as amended (the Act).

Scope of Order

The merchandise subject to this antidumping duty order is polyethylene retail carrier bags (PRCBs) which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of recent changes to the Harmonized Tariff Schedule of the United States (HTSUS), imports of the subject merchandise are currently classifiable under statistical category 3923.21.0085 of the HTSUS. Furthermore, although the HTSUS subheading is provided for convenience and customs purposes, the written description of the scope of the order is dispositive.

Rescission

In the Preliminary Results, we explained that Multibax reported that it had no shipments of subject merchandise subject to this review. Additionally, we stated that, because our review of information from U.S. Customs and Border Protection (CBP) supported Multibax's claim, we would rescind the review with respect to Multibax if we continued to find that Multibax did not have any shipments of subject merchandise to the United States during the period of review. See Preliminary Results, 72 FR at 37719. Because we have not received information indicating that Multibax had any shipments of subject merchandise during the POR, we are rescinding the administrative review with respect to Multibax.

Duty Absorption

In the preliminary results of this administrative review, the Department found that UPC/API absorbed antidumping duties on all U.S. sales in accordance with section 751(a)(4) of the Act. See Preliminary Results, 72 FR at 37719. UPC/API did not present evidence to rebut the presumption that the unaffiliated customers in the United States will not pay the full duty ultimately assessed on the subject merchandise. Thus, for the final results of this review, we continue to find that UPC/API absorbed antidumping duties.

Analysis of Comments Received

All issues raised in the case and rebuttal briefs by parties to this review are addressed in the November 8, 2007, Issues and Decision Memorandum for the Antidumping Duty Administrative Review of Polyethylene Retail Carrier Bags from Thailand for the period of review August 31, 2005, through July 31, 2006 (Decision Memorandum), which is hereby adopted by this notice. Attached to this notice as an appendix is a list of the issues which parties have raised and to which we have responded in the Decision Memorandum. Parties can find a complete discussion of all issues raised in this review and the corresponding recommendations in this public memorandum, which is on file in the Department's Central Records Unit, Room B-099 of the main Department building (CRU). In addition, a complete version of the Decision Memorandum can be accessed directly on the Web at http://ia.ita.doc.gov/frn. The paper copy and electronic version of the Decision Memorandum are identical in content.

Changes Since the Preliminary Results

We recalculated CP's general and administrative expenses to base them on CP's 2006 audited financial statements rather than its 2005 financial statements. We also corrected a clerical error in the margin calculations for UPC/API by deducting foreign movement expenses incurred in baht.

Sales Below Cost in the Home Market

For these final results of review, the Department disregarded home-market sales by CP, UPC/API, and TPBG that failed the cost-of-production test.

Final Results of the Review

As a result of our review, we determine that the following percentage weighted-average dumping margins exist on polyethylene retail carrier bags from Thailand for the period August 31, 2005, through July 31, 2006:

Producer/Exporter | Margin (percent)
UPC/API | 0.80
TPBG | 0.87
CP | 1.87
King Pac | 122.88

Review-Specific Average Rate Applicable to the Following Companies:³

³ This rate is based on the weighted average of the margins we calculated for those companies selected for individual review, excluding margins based entirely on AFA.

Producer/Exporter | Margin (percent)
Apple Film Co., Ltd. | 0.95
Naraipak Co., Ltd. | 0.95
Polyplast (Thailand) Co., Ltd. | 0.95
Sahachit Watana Plastic Ind. Co., Ltd. | 0.95
Thantawan Industry Public Co., Ltd. | 0.95
U. Yong Ltd., Part. | 0.95
U. Yong Industry Co., Ltd. | 0.95

Assessment Rates

Upon issuance of these final results, the Department will determine, and U.S. Customs and Border Protection (CBP) shall assess, antidumping duties on all appropriate entries. The Department intends to issue assessment instructions to CBP 15 days after the date of publication of these final results of review. We calculated importer/customer-specific duty assessment rates or per-unit dollar amounts, as appropriate, for each respondent's reported importer or customer.

Where the assessment rate or amount is above de minimis, we will instruct CBP to assess duties on all entries of subject merchandise by that importer or customer. For the responsive companies we did not select for individual examination, we have calculated an assessment rate based on weighted average of the weighted-average margins we calculated for the companies selected for individual review, excluding any which are determined on adverse facts available entirely. We will instruct CBP to apply that rate (0.95 percent) to all entries of subject merchandise during the POR that were produced and/or exported by Apple Film Co., Ltd., Naraipak Co., Ltd., Polyplast (Thailand) Co., Ltd., Sahachit Watana Plastic Ind. Co., Ltd., Thantawan Industry Public Co., Ltd., U. Yong Ltd., Part, and U. Yong Industry Co., Ltd. Because we are relying on total adverse facts available to establish King Pac's dumping margin, we will instruct CBP to apply a dumping margin of 122.88 percent to King Pac.

The Department clarified its “automatic assessment” regulation on May 6, 2003. See Antidumping and Countervailing Duty Proceedings: Assessment of Antidumping Duties, 68 FR 23954 (May 6, 2003) (Assessment-Policy Notice). This clarification will apply to entries of subject merchandise during the period of review produced by companies included in these final results of review for which the reviewed companies did not know that the merchandise they sold to an intermediary (e.g., a reseller, trading company, or exporter) was destined for the United States. In such instances, we will instruct CBP to liquidate unreviewed entries at the all-others rate if there is no rate for the intermediary involved in the transaction. See Assessment-Policy Notice for a full discussion of this clarification.

a. Export Price

With respect to export-price sales by TPBG and CP, we divided the total dumping margins (calculated as the difference between normal value and the export price) for each exporter's importer or customer by the total number of units the exporter sold to that importer or customer. We will direct CBP to assess the resulting per-unit dollar amount against each unit of merchandise on each of that importer's or customer's entries during the review period. See 19 CFR 351.212(b)(1).

b. Constructed Export Price

For constructed export-price sales by UPC/API, we divided the total dumping margins for the reviewed sales by the total entered value of those reviewed sales for each importer. We will direct CBP to assess the resulting percentage margin against the entered customs values for the subject merchandise on each of that importer's entries during the review period. See 19 CFR 351.212(b)(1).

Cash-Deposit Requirements

The following deposit requirements will be effective upon publication of this notice of final results of administrative review for all shipments of the subject merchandise entered, or withdrawn from warehouse, for consumption on or after the date of publication, consistent with section 751(a)(1) of the Act: (1) the cash-deposit rates for the reviewed companies will be the rates shown above; (2) for previously investigated companies not listed above, the cash-deposit rate will continue to be the company-specific rate published for the most recent period; (3) if the exporter is not a firm covered in this review or the original less-than-fair-value (LTFV) investigation but the manufacturer is, the cash-deposit rate will be the rate established for the most recent period for the manufacturer of the merchandise; (4) the cash-deposit rate for all other manufacturers or exporters will continue to be 2.80 percent, the all-others rate from the amended final determination of the LTFV investigation published on July 15, 2004. See Notice of Amended Final Determination of Sales at Less Than Fair Value: Polyethylene Retail Carrier Bags From Thailand, 69 FR 42419 (July 15, 2004).

These deposit requirements shall remain in effect until further notice.

Notification Requirements

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties. See id.

This notice also serves as a reminder to parties subject to administrative protective order (APO) of their responsibility concerning the disposition of proprietary information disclosed under APO in accordance with 19 CFR 351.305(a)(3). Timely notification of the return or destruction of APO materials or conversion to judicial protective order is hereby requested. Failure to comply with the regulations and the terms of an APO is a sanctionable violation.

We are issuing and publishing these results in accordance with sections 751(a)(1) and 777(i) of the Act.

Dated: November 8, 2007.
Joseph A. Spetrini,
Deputy Assistant Secretary for Import Administration.

Appendix

1. Selection of Respondents

2. Adverse Facts Available

3. General and Administrative Expenses and Interest Expenses

[FR Doc. E7-22474 Filed 11-15-07; 8:45 am]

BILLING CODE 3510-DS-S